DEPARTMENT OF COMMERCE

International Trade Administration

[A-588-835]

Notice of Extension of Time Limit for Preliminary Results of Antidumping Duty Administrative Review: Oil Country Tubular Goods from Japan

AGENCY: Import Administration, International Trade Administration, U.S. Department of Commerce.

EFFECTIVE DATE: May 5, 2005.

FOR FURTHER INFORMATION CONTACT: Kimberley Hunt or Mark Hoadley, AD/CVD Operations, Office 6, Import Administration, International Trade Administration, U.S. Department of Commerce, 14th Street and Constitution Avenue, NW, Washington, DC 20230; telephone: (202) 482-1272 or (202) 482-3148, respectively.

SUPPLEMENTARY INFORMATION:

Background

The Department of Commerce (the Department) published an antidumping duty order on oil country tubular goods (OCTG) from Japan on August 11, 1995 (see Antidumping Duty Order: Oil Country Tubular Goods from Japan, 60 FR 155 (August 11, 1995)). On August 31, 2004, United States Steel Corporation, a petitioner in the original investigation, requested that the Department conduct an administrative review of four companies. On September 22, 2004, the Department published a notice of initiation of an administrative review for JFE Steel Corporation, Nippon Steel Corporation, NKK Tubes, and Sumitomo Metal Industries, Ltd., for the period August 1, 2003, through July 31, 2004 (see Notice of Initiation of Antidumping and Countervailing Duty Administrative Reviews and Request for Revocation in Part, 69 FR 56745 (September 22, 2004)). The preliminary results of this administrative review are currently due no later than May 3, 2005.

Extension of Time Limit for Preliminary Results

Pursuant to section 751(a)(3)(A) of the Tariff Act of 1930, as amended, (the Act), the Department shall issue preliminary results in an administrative review of an antidumping duty order within 245 days after the last day of the anniversary month of the date of publication of the order. The Act further provides, however, that the Department may extend the deadline for completion of the preliminary results of a review from 245 to 365 days if it determines that it is not practicable to complete the preliminary results within the 245-day period. See also section 351.213(h)(2) of the Department's regulations.

In this administrative review, the Department finds that additional time is required to collect the necessary information to corroborate the statements of two respondents who reported that they did not have any shipments of the subject merchandise during the period of review. Following our normal practice, the Department has requested entry information from U.S. Customs and Border Protection (CBP). We have also asked both respondents to answer questions concerning their shipments during the period of review. Recently, we have also requested additional, more detailed information from CBP, which is not immediately available. After we receive the information from the respondents and CBP, the Department will need time to analyze it and reach a decision.

For these reasons, the Department has determined that is it is not practicable to complete the preliminary results of this review within the original time period. Consequently, we are extending the time for the completion of the preliminary results of this review until no later than August 31, 2005, which is 365 days from the last day of the anniversary month of the date of publication of the order. The deadline for the final results of this administrative review continues to be 120 days after the publication of the preliminary results.

This notice is issued and published in accordance with section 751(a)(3)(A) of the Act.

Dated: April 28, 2005.
Barbara E. Tillman,
Acting Deputy Assistant Secretary for Import Administration.

[FR Doc. E5-2195 Filed 5-4-05; 8:45 am]

BILLING CODE 3510-DS-S